ENVIRONMENTAL PROTECTION AGENCY

[ER-FRL-6611-3]

Environmental Impact Statements; Notice of Availability

Responsible Agency: Office of Federal Activities, General Information (202) 564-7167 OR www.epa.gov/oeca/ofa

Weekly receipt of Environmental Impact Statements

Filed September 18, 2000 Through September 22, 2000

Pursuant to 40 CFR 1506.9.

EIS No. 200330, Final Supplement, FHW, WA, North Spokane Corridor (formerly known as the North Spokane Freeway) New Information Concerning Transportation Improvements through the City of Spokane and Spokane County and between I-90, Funding, Spokane County, WA, Due: October 30, 2000, Contact: Gene Fong (360) 753-9480.

EIS No. 200331, Draft Supplement, AFS, WA, Huckleberry Land Exchange Consolidate Ownership and Enhance Future Conservation and Management, Updated Information, Proposal to Exchange Land and Mineral Estates, Federal Land and Non Federal Land, Mt. Baker-Snoqualmie National Forest, Skagit Snohomish, King, Pierce, Kittitas, and Lewis Counties, WA, Due: November 13, 2000, Contact: Everett White (425) 744-3442.

EIS No. 200332, Revised Draft EIS, IBR, CA, Coachella Canal Lining Water Project, Revised and Updated Information, Approval of the Transfers and Exchanges of Conserved Coachella Canal Water, Construction, Operation and Funding, Riverside and Imperial Counties, CA, Due: November 21, 2000, Contact: Don Mitchell (760) 398-2651.

EIS No. 200333, Revised Draft EIS, JUS, TX, AZ, NM, CA, Programmatic EIS—U.S. Immigration and Naturalization Service (INS) and U.S. Joint Task Force-Six (JTF-6), Revised to Address Potential Impacts of Ongoing Activities from Brownsville, Texas to San Diego, California, Due: November 13, 2000, Contact: Eric Verwers (817) 978-0202.

EIS No. 200334, Final EIS, SFW, NV, Clark County Multiple Species Habitat Conservation Plan, Issuance of a Permit to Allow Incidental Take of 79 Species, Clark County, NV, Due: October 30, 2000, Contact: Janet Bair (702) 647-5230.

Amended Notices

EIS No. 200322, Revised Draft EIS, FAA, CA, Metropolitan Oakland International Airport (MOIA), Airport Development Plan (ADP), Reevaluation of the Forecasts and Planning Assumptions in the ADP, Airport Layout Plan Approval, Funding and COE Section 404 and 10 Permits Issuance, Port of Oakland, Alameda County, CA, Due: November 06, 2000, Contact: Joseph R. Rodriguez (650) 876-2805. Revision of FR notice published on 09/22/2000: CEQ Comment Date corrected from 10/30/2000 to 11/06/2000.

Dated: September 26, 2000.
Joseph C. Montgomery,
Director, NEPA Compliance Division, Office of Federal Activities.

[FR Doc. 00-25055 Filed 9-28-00; 8:45 am]

BILLING CODE 6560-50-P